DEPARTMENT OF TRANSPORTATION

Federal Aviation Administration

14 CFR Part 39

[Docket No. FAA-2024-2021; Project Identifier AD-2023-01077-T]

RIN 2120-AA64

Airworthiness Directives; Gulfstream Aerospace Corporation Airplanes

AGENCY: Federal Aviation Administration (FAA), DOT.

ACTION: Notice of proposed rulemaking (NPRM).

SUMMARY: The FAA proposes to adopt a new airworthiness directive (AD) for certain Gulfstream Aerospace Corporation Model GVII-G500 and GVII-G600 airplanes. This proposed AD was prompted by a report of cracking in the electrical grounding receptacles located on the left and right wings. This proposed AD would require inspecting the electrical grounding receptacles for cracks and corrosion, performing applicable on-condition actions, and sealing over the grounding receptacles on the top of the wings to permanently disable the receptacle. The FAA is proposing this AD to address the unsafe condition on these products.

DATES: The FAA must receive comments on this proposed AD by October 7, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2021; or in person at Docket Operations between 9 a.m. and 5 p.m., Monday through Friday, except Federal holidays. The AD docket contains this NPRM, any comments received, and other information. The street address for Docket Operations is listed above.

Material Incorporated by Reference: • For Gulfstream material identified in this AD, contact Gulfstream Aerospace Corporation, Technical Publications Dept., P.O. Box 2206, Savannah, GA 31402-2206; telephone 800-810-4853; email pubs@gulfstream.com; website gulfstream.com/en/customer-support.

• You may view this material at the FAA, Airworthiness Products Section, Operational Safety Branch, 2200 South 216th St., Des Moines, WA. For information on the availability of this material at the FAA, call 206-231-3195. It is also available at regulations.gov under Docket No. FAA-2024-2021.

FOR FURTHER INFORMATION CONTACT: Harun Kalin, Aviation Safety Engineer, FAA, 1701 Columbia Avenue, College Park, GA 30337; phone: 404-474-5576; email: 9-ASO-ATLACO-ADs@faa.gov.

SUPPLEMENTARY INFORMATION:

Comments Invited

The FAA invites you to send any written relevant data, views, or arguments about this proposal. Send your comments to an address listed under ADDRESSES. Include “Docket No. FAA-2024-2021; Project Identifier AD-2023-01077-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Harun Kalin, Aviation Safety Engineer, FAA, 1701 Columbia Avenue, College Park, GA 30337; phone: 404-474-5576; email: 9-ASO-ATLACO-ADs@faa.gov. Any commentary that the FAA receives that is not specifically designated as CBI will be placed in the public docket for this rulemaking.

Background

The FAA has received a report of cracks found in the electrical grounding receptacles located on the left and right wings of certain Gulfstream Aerospace Corporation Model GVII airplanes. Further investigation revealed that the cracks were initiated by the collection of water in the electrical grounding receptacle leading to corrosion and mechanical stresses from water freeze and thaw cycles. Water can leak through the o-ring/pin interface of the grounding receptacle and fill the housing over time. The subsequent freeze and thaw cycles of the entrapped water over multiple flights resulted in cracking and failures within the receptacle, which can be exacerbated by corrosion. Fuel vapors can escape through a cracked receptacle during over-wing fueling operations. When the ground crew attempts to connect equipment to grounding receptacle a spark from refueling equipment could ignite flammable fuel mixture in the fuel tank. Fuel leaking from the electrical grounding receptacles could result in a potential source of ignition in a fuel tank and consequent fire or explosion.

FAA's Determination

The FAA is issuing this NPRM after determining that the unsafe condition described previously is likely to exist or develop on other products of the same type design.

Material Incorporated by Reference Under 1 CFR Part 51

The FAA reviewed Gulfstream GVII-G500 Customer Bulletin No. 089, dated November 28, 2023; and Gulfstream GVII-G600 Customer Bulletin No. 058, dated November 28, 2023. This material specifies procedures for the following actions:

• Borescope inspections for cracking and corrosion of the interior walls of the grounding receptacle casing.

• Measurement of the inner diameter of the grounding receptacle if any Level 1 corrosion is found.

• Repair including cleaning and application of chemical conversion coating if any Level 1 corrosion within the specified tolerance (inner diameter) is found.

• Replacement of the grounding receptacle assembly if any crack, any Level 2 or Level 3 corrosion, or any level 1 corrosion outside of the specified tolerance is found.

• Removal of the “GROUND HERE” decal/stencil from the grounding receptacles, and application of epoxy over the ground receptacle area to permanently disable the receptacles.

These documents are distinct since they apply to different airplane models.

This material is reasonably available because the interested parties have access to it through their normal course of business or by the means identified in ADDRESSES.

Proposed AD Requirements in This NPRM

This proposed AD would require accomplishing the actions specified in the material already described, except for any differences identified as exceptions in the regulatory text of this proposed AD. For information on the procedures and compliance times, see this material at regulations.gov by searching for and locating Docket No. FAA-2024-2021.

Costs of Compliance

The FAA estimates that this AD, if adopted as proposed, would affect 236 airplanes of U.S. registry. The FAA estimates the following costs to comply with this proposed AD:

Estimated Costs
Action | Labor cost | Parts cost | Cost per product | Cost on U.S. operators
Inspecting and disabling grounding receptacles | 64 work-hours × $85 per hour = $5,440 | $83 | $5,523 | $1,303,428

The FAA estimates the following costs to do any necessary corrective actions that would be required based on the results of the proposed inspections. The agency has no way of determining the number of aircraft that might need these actions:

On-Condition Costs
Action | Labor cost | Parts cost | Cost per product
Repair | 12 work-hours × $85 per hour = $1,020 | $83 | $1,103
Replacement | 35 work-hours × $85 per hour = $2,975 | 926 | 3,901

The FAA has included all known costs in its cost estimate. According to the manufacturer, however, some or all the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Gulfstream Aerospace Corporation: Docket No. FAA-2024-2021; Project Identifier AD-2023-01077-T.

(a) Comments Due Date

The FAA must receive comments on this airworthiness directive (AD) by October 7, 2024.

(b) Affected ADs

None.

(c) Applicability

This AD applies to the Gulfstream Aerospace Corporation airplanes, certificated in any category, identified in paragraphs (c)(1) and (2) of this AD.

(1) Model GVII-G500 airplanes, having serial numbers (S/Ns) 72001 through 72139 inclusive.

(2) Model GVII-G600 airplanes, having S/Ns 73001 through 73144 inclusive.

(d) Subject

Air Transport Association (ATA) of America Code 28, Fuel.

(e) Unsafe Condition

This AD was prompted by a report of cracking in the electrical receptacles located on left and right wings of certain Gulfstream Aerospace Corporation Model GVII airplanes. The FAA is issuing this AD to address cracks and corrosion of the electrical grounding receptacles. The unsafe condition, if not addressed, could result in fuel leaking from the electrical grounding receptacles.

(f) Compliance

Comply with this AD within the compliance times specified, unless already done.

(g) Required Actions

Within 36 months after the effective date of this AD, do the actions specified in paragraphs (g)(1) and (2) of this AD, in accordance with Gulfstream GVII-G500 Customer Bulletin No. 089 or Gulfstream GVII-G600 Customer Bulletin No. 058, both dated November 28, 2023, as applicable.

(1) Do borescope inspections for cracking and corrosion of the interior walls of the grounding receptacle casing and do all applicable corrective actions before further flight.

(2) Remove the “GROUND HERE” decal/stencil from the grounding receptacles and apply epoxy over the ground receptacle area to permanently disable the grounding receptacles.

(h) Alternative Methods of Compliance (AMOCs)

(1) The Manager, East Certification Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (i) of this AD.

(2) Before using any approved AMOC, notify your appropriate principal inspector, or lacking a principal inspector, the manager of the responsible Flight Standards Office.

(3) For material that contains steps that are labeled as Required for Compliance (RC), the provisions of paragraphs (h)(3)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(i) Related Information

For more information about this AD, contact Harun Kalin, Aviation Safety Engineer, FAA, 1701 Columbia Avenue, College Park, GA 30337; phone: 404-474-5576; email: 9-ASO-ATLACO-ADs@faa.gov.

(j) Material Incorporated by Reference

(1) The Director of the Federal Register approved the incorporation by reference of the material listed in this paragraph under 5 U.S.C. 552(a) and 1 CFR part 51.

(2) You must use this material as applicable to do the actions required by this AD, unless the AD specifies otherwise.

(i) Gulfstream GVII-G500 Customer Bulletin No. 089, dated November 28, 2023.

(ii) Gulfstream GVII-G600 Customer Bulletin No. 058, dated November 28, 2023.

(3) For Gulfstream material identified in this AD, contact Gulfstream Aerospace Corporation, Technical Publications Dept., P.O. Box 2206, Savannah, GA 31402-2206; telephone 800-810-4853; email pubs@gulfstream.com; website gulfstream.com/en/customer-support.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on August 8, 2024.
Victor Wicklund,
Deputy Director, Compliance & Airworthiness Division, Aircraft Certification Service.

[FR Doc. 2024-18635 Filed 8-21-24; 8:45 am]

BILLING CODE 4910-13-P